DEPARTMENT OF HOMELAND SECURITY

Coast Guard

[USCG-2005-21187]

Identity Security and Modernization of the Merchant Mariner Credential Statutes

AGENCY: Coast Guard, DHS.

ACTION: Notice of public meeting and request for comments.

SUMMARY: The Coast Guard believes that identity verification is a critical element of port security, recognizing that we must know and trust those who are provided unescorted access to our port facilities and vessels. The Coast Guard will hold a public meeting to accept comments concerning the President's proposal to implement the recommendations of the 9/11 Commission Report in the area of Merchant Mariner Credentials and to modernize these statutes (hereinafter referred to as “the proposal”). The proposal may be viewed in the docket for this notice. The Coast Guard also seeks written comments on the proposal.

DATES: The public meeting will be held on Friday, June 17, 2005, from 9 a.m. to 5 p.m. This meeting may close early if all business is finished. Members of the public who desire to make an oral statement may sign up on the day of the meeting. Written comments and related material must reach the Docket Management Facility on or before June 29, 2005.

ADDRESSES: The public meeting will be held in the Gallery Ballroom of the Arlington Hilton Hotel, 950 North Stafford Street, Arlington, VA 22203. Further directions regarding the location of the Arlington Hilton may be obtained by phoning (703) 528-6000.

You may submit written comments identified by Coast Guard docket number USCG-2005-21187 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal e-Rulemaking Portal: http://www.regulations.gov.

FOR FURTHER INFORMATION CONTACT: If you have questions on this notice, call or e-mail mark Gould of the Coast Guard at (202) 267-6890 (mgould@comdt.uscg.mil) or Gerald Miante of the Coast Guard at (202) 267-0221 (gmiante@comdt.uscg.mil). If you have questions on viewing or submitting materials to the docket, call Andrea M. Jenkins, Program Manager, Dockets Operations, telephone 202-366-0271.

SUPPLEMENTARY INFORMATION: We encourage you to submit comments concerning identity security and modernization of the Merchant Mariner Credential Statutes in the five areas identified below under Agenda. All comments received will be posted, without change, to http://www.dms.dot.gov and will include any personal information you have provided. We have an agreement with the Department of Transportation (DOT) to use the Docket Management Facility. Please see DOT's “Privacy Act” paragraph below.

Submitting comments: If you submit a comment, please include your name and address, identify the docket number for this rulemaking (USCG-2005-21187), indicate the specific provision of the proposal to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view the proposal, comments, or any other documents mentioned elsewhere in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Agenda of meeting on June 17, 2005: Under current law, merchant mariners' documents issued by the Coast Guard serve as a form of government issued identification. Yet, some of these credentials contain limited identifying information and are relatively easy to forge. The President's proposal to implement the recommendations of the 9/11 Commission Report in the area of Merchant Mariner Credentials represents an update and rationalization of the Coast Guard's antiquated mariner credentialing and suspension and revocation authorities. It takes into account the findings and recommendations of the 9/11 Commission Regarding the importance of preventing terrorists from obtaining, and using, government identification cards. It is an important component of the Coast Guard's effort to instill a culture of security within a system previously focused almost exclusively on safety efficiency.

This proposal also enhances the Coast Guard's ability to be flexible and agile in establishing appropriate criteria and processes for issuing merchant mariner credentials and in recovering them from unqualified holders or those who present a significant security risk. This public meeting is intended to collect comments from any interested person or organization on the President's proposal (which may be viewed in the docket for this notice).

After a short introduction, the public will be invited to provide oral comments in the following topic areas:

1. Homeland Security—The 9/11 Commission found that terrorists used government-issued identification to facilitate their attacks upon the United States. The Commission recommended that the security of such forms of identification be enhanced. Congress responded by enacting laws requiring that security be considered by credentialing agencies, for example, the Maritime Transportation Security Act, Section 102 (46 U.S.C. 70105) and the Coast Guard and Maritime Transportation Act, Section 407 (46 U.S.C. 7703). This proposal continues to apply those existing authorities in the reorganized new chapters while providing flexibility to respond to developing security threats.

2. Modernization—The existing statutes contain numerous outdated, obsolete and confusing provisions, for example, in § 7313 the “coal passer” rating and in § 7306 six separate classifications of “able seaman”. The proposal eliminates this antiquated and redundant terminology and improves the Coast Guard's ability to administer the credentialing statutes for the benefit of mariners. As the industry evolves, the proposal will allow us to respond with appropriate training and qualification requirements for mariners in the future.

3. Organization—The proposal replaces the current five chapters of Title 46, which randomly intermingle credentialing requirements, with two chapters, one on issuance and one on suspension and revocation of credentials. We believe this will be easier for mariners and other users of the code to understand and apply, as well as easier for the Coast Guard to administer.

4. Clarification—With limited exceptions, the proposal does not make substantive changes. It mostly clarifies existing law. At first glance, because of the comprehensive nature of the proposal, the language appears to change much. However, on closer reading, it is clear that the existing authorities are unchanged. For example, at first reading the proposal may appear to eliminate licenses and merchant mariner documents (MMDs) replacing them with “merchant mariner credentials”. In fact, however, the proposal defines “merchant mariner credentials” to include both licenses and MMDs thereby preserving the Coast Guard's authority to continue issuing both while adding the flexibility to integrate these documents with the Transportation Workers Identification Credential (TWIC) and other future, secure-credentialing efforts. The Coast Guard did not intend to alter or affect the rights, benefits or duties of any credentialed merchant mariner. Instead, the proposal is intended to clarify, consolidate, add flexibility and increase the effectiveness of the statute. We do not anticipate, or plan to, make any immediate changes to the existing credentials or the regulations, procedures and processes governing merchant mariner credentialing based on the proposal. The Coast Guard will continue working with mariners, industry and the public to improve the administration of the merchant mariner credentialing program.

5. Harmonization—Organizations such as the International Maritime Organization (IMO) have undertaken comprehensive efforts concerning safety and security in the maritime arena. These efforts include the Standards of Training, Certification and Watchkeeping (STCW), and the International Ship and Port Facility Security Code (ISPS). Many of these initiatives have been spearheaded by the United States. The proposal seeks to harmonize the credentialing statutes with these efforts and improve our ability to implement both ongoing and future standards.

Procedural: This meeting is open to the public. Please note that the meeting may close early if all business is finished. The facilitator of the meeting has the discretion to limit the amount of time allocated to each commenter based on the total number of persons requesting to make oral comments.

Information on services for individuals with disabilities: For information on facilities or services for individuals with disabilities or to request special assistance at the meeting, contact Mr. Gould as soon as possible.

Dated: May 6, 2005.
Howard L. Hime,
Acting Director of Standards, Marine Safety, Security and Environmental Protection.

[FR Doc. 05-9936 Filed 5-18-05; 8:45 am]

BILLING CODE 4910-15-M